DEPARTMENT OF STATE

Office of Defense Trade Control

[Public Notice 3692]

Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(e) of the Arms Export Control Act (22 U.S.C. 2776).

EFFECTIVE DATE: As shown on each of the twenty-four letters.

FOR FURTHER INFORMATION CONTACT: Mr. William J. Lowell, Director,Office of Defense Trade Controls, Bureau of Political-Military Affairs, Department of State (202 663-2700).

SUPPLEMENTARY INFORMATION: Section 38(e) of the Arms Export Control Act mandates that notifications to the Congress pursuant to sections 36(c) and 36(d) must be published in the Federal Register when they are transmitted to Congress or as soon thereafter as practicable.

Dated: June 4, 2001.
William J. Lowell,
Director, Office of Defense Trade Controls, U.S. Department of State.

United States Department of State

Washington, D.C. 20520, April 30, 2001.

The Honorable J. Dennis Hastert, Speaker of the House of Representatives.

Dear Mr. Speaker: Pursuant to Section 36(c) of the Arms Export Control Act, I am transmitting herewith certification of a proposed Technical Assistance Agreement for the export of defense articles or defense services sold commercially under a contract in the amount $50,000,000 or more.

The transaction contained in the attached certification involves ongoing activities associated with technical assistance agreements with Russia beyond those addressed in DTC 39-98 dated March 19, 1998, DTC 98-99 dated August 5, 1999, DTC 014-00 dated March 7, 2000, and DTC 034-01 dated March 1, 2001 providing for the marketing and sale of satellite launch services utilizing Proton rocket boosters and the performance of associated integration and launch services from Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 038-01

United States Department of State,

Washington, D.C. 20520, April 30, 2001.

The Honorable J. Dennis Hastert, Speaker of the House of Representatives.

Dear Mr. Speaker: Pursuant to Section 36(c) of the Arms Export Control Act, I am transmitting herewith certification of a proposed Technical Assistance Agreement for the export of defense articles or defense services sold commercially under a contract in the amount $50,000,000 or more.

The transaction contained in the attached certification concerns the Sea Launch joint venture, in which Norway, Ukraine, Russia and United Kingdom will also participate, to provide commercial space launch services for communications satellites from a modified oil platform in the Pacific Ocean.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 048-01

United States Department of State,

Washington, D.C. 20520, May 3, 2001.

The Honorable J. Dennis Hastert, Speaker of the House of Representatives.

Dear Mr. Speaker: Pursuant to Section 36(c) of the Arms Export Control Act, I am transmitting, herewith, certification of a proposed license for the export of major defense equipment defense articles and/or defense services sold commercially under a contract in the amount of $14,000,000 or more.

The transaction contained in the attached certification involves the export of defense services and defense articles to Norway for the development of the Spanish Short Range Air Defense System for the Spanish Ministry of Defense, utilizing the surface launched AMRAAM Air Defense System.

The United States Government is prepared to license the export of these items having taken into account political, military, economic, human rights, and arms control considerations.

More detailed information is contained in the formal certification which, though unclassified contains business information submitted to the Department of State by the applicant, publication of which could cause competitive harm to the United States firm concerned.

Sincerely, Michael E. Guest,

Acting Assistant Secretary, Legislative Affairs.

Enclosure: Transmittal No. DTC 012-01

United States Department of State,

Washington, D.C. 20520, May 3, 2001.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the export of defense services and technical data to the United Kingdom for the integration and testing of Battlefield Management Systems and Sensors in the ASTOR (Airborne Stand Off Radar) System.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 039-01

United States Department of State,

Washington, D.C. 20520, May 17, 2001.

The Honorable J. Dennis Hastert, Speaker of the House of Representatives.

Dear Mr. Speaker: Pursuant to Section 36(d) of the Arms Export Control Act, I am transmitting, herewith, certification of a proposed Manufacturing License Agreement with Sweden.

The transaction described in the attached certification involves the transfer of technical data and technical assistance to manufacture, assemble, test and maintain in Sweden, GRG5 Rate Gyroscopes and APS-4 Accelerometers.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 033-01

United States Department of State,

Washington, D.C. 20520, May 23, 2001.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the export of defense services and defense articles related to the operation, training, and maintenance for Saudi Arabia's “Peace Shield” command, control, and communications (C3) system for end use by the Royal Saudi Arabian Air Force.

The United States Government is prepared to license the export of these items having taken into account political, military, economic, human rights, and arms control considerations.

More detailed information is contained in the formal certification which, though unclassified contains business information submitted to the Department of State by the applicant, publication of which could cause competitive harm to the United States firm concerned.

Sincerely,

Michael E. Guest,

Acting Assistant Secretary, Legislative Affairs.

Enclosure: Transmittal No. DTC 009-01

United States Department of State,

Washington, D.C. 20520, May 23, 2001.

The Honorable J. Dennis Hastert, Speaker of the House of Representatives.

Dear Mr. Speaker:

Pursuant to Section 36(c) of the Arms Export Control Act, I am transmitting, herewith, certification of a proposed license for the export of defense articles or defense services sold commercially under a contract in the amount of $50,000,000 or more.

The transaction contained in the attached certification involves the export of technical data and assistance to Israel related to the development of the Tactical High Energy Laser (THEL) Advanced Concept Technology Demonstrator for end-use in the United States and Israel.

The United States Government is prepared to license the export of these items having taken into account political, military, economic, human rights, and arms control considerations.

More detailed information is contained in the formal certification which, though unclassified contains business information submitted to the Department of State by the applicant, publication of which could cause competitive harm to the United States firm concerned.

Sincerely,

Michael E. Guest,

Acting Assistant Secretary, Legislative Affairs.

Enclosure: Transmittal No. DTC 011-01

United States Department of State,

Washington, D.C. 20520, May 23, 2001.

The Honorable J. Dennis Hastert, Speaker of the House of Representatives.

Dear Mr. Speaker: Pursuant to Section 36(d) of the Arms Export Control Act, I am transmitting herewith certification of a proposed Manufacturing License Agreement with Italy and France.

The transaction contained in the attached certification involves the export of technical data and defense services to Italy to support the co-production of Mk-83 Joint Direct Attack Munition (JDAM) Guidance Kits.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 032-01

United States Department of State,

Washington, D.C. 20520, May 23, 2001.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the manufacture in Norway of AN/APG-66/68 Fire Control Radar rack assemblies and components for the F-16 Mid Life Update Program.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 036-01

United States Department of State,

Washington, D.C. 20520, May 23, 2001.

The Honorable J. Dennis Hastert,Speaker of the House of Representatives.

Dear Mr. Speaker: Pursuant to Sections 36(c) of the Arms Export Control Act, I am transmitting herewith certification of a proposed license for the export of defense articles or defense services sold commercially under a contract in the amount $50,000,000 or more.

The transaction contained in the attached certification involves the export of defense services and technical data for the manufacture of propeller parts and components for various maritime patrol and transport aircraft manufactured by France and sold to third countries.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 040-01

United States Department of State,

Washington, D.C. 20520, May 23, 2001.

The Honorable J. Dennis Hastert, Speaker of the House of Representatives.

Dear Mr. Speaker: Pursuant to Section 36(d) of the Arms Export Control Act, I am transmitting herewith certification of a proposed Manufacturing License Agreement with Japan.

The transaction described in the attached certification involves the transfer of technical data and assistance in the manufacture of the AN/ARC-159 UHF Transceiver for end use by the Government of Japan.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. 051-01

United States Department of State,

Washington, D.C. 20520, May 23, 2001.

The Honorable J. Dennis Hastert,

Speaker of the House of Representatives.

Dear Mr. Speaker: Pursuant to Section 36(d) of the Arms Export Control Act, I am transmitting herewith certification of a proposed Manufacturing License Agreement with Germany.

The transaction described in the attached certification involves the transfer of technical data and assistance in the manufacture of Laser Rangefinders and 1st Generation Parallel-Scan Thermal Imaging Systems. The Laser Rangefinders and Parallel-Scan Thermal Imaging Systems will be for end use by Governments of Australia, Austria, Belgium, Czech Republic, Denmark, Finland, France, Germany, Greece, Hungary, Ireland, Israel, Italy, Luxembourg, Malaysia, The Netherlands, New Zealand, Norway, Poland, Portugal, Romania, Singapore, Slovakia, Slovenia, Spain, Sweden, Switzerland, Thailand, Turkey, and the United Kingdom.

The United States Government is prepared to license the export of these items having taken into account political, military, economic, human rights, and arms control considerations.

More detailed information is contained in the formal certification, which, though unclassified, contains business information submitted to the Department of State by the applicant, publication of which could cause competitive harm to the United States firm concerned.

Sincerely,

Michael E. Guest,

Acting Assistant Secretary, Legislative Affairs.

Enclosure: Transmittal No. 053-01

United States Department of State,

Washington, D.C. 20520, May 23, 2001.

The Honorable J. Dennis Hastert,

Speaker of the House of Representatives.

Dear Mr. Speaker: Pursuant to Section 36(c) of the Arms Export Control Act, I am transmitting herewith certification of a proposed Technical Assistance Agreement for the export of defense articles or defense services sold commercially under a contract in the amount $50,000,000 or more.

The transaction contained in the attached certification involves the sale to Mexico of the SATMEX 6 commercial communications satellite. The satellite will provide telecommunications services in the western hemisphere.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 061-01

United States Department of States,

Washington D.C. 20520, May 24, 2001.

The Honorable J. Dennis Hastert, Speaker of the House of Representatives.

Dear Mr. Speaker:Pursuant to Section 36(c) of the Arms Export Control Act, I am transmitting herewith certification of a proposed Technical Assistance Agreement for the export of defense articles or defense services sold commercially under a contract in the amount$50,000,000 or more.

The transaction contained in the attached certification involves the launch of two (2) French-built commercial communications satellites for end use in the United States.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

United States Department of States,

Washington D.C. 20520, May 24, 2001.

Enclosure: Transmittal No. DTC 037-01.

The Honorable J. Dennis Hastert, Speaker of the House of Representatives.

Dear Mr. Speaker:Pursuant to Section 36(c) of the Arms Export Control Act, I am transmitting, herewith, certification of a proposed license for the export of defense articles or defense services sold commercially under a contract in the amount $50,000,000 or more.

The transaction contained in the attached certification involves the export of technical data and assistance to Belgium for the manufacture of F110 series military aircraft engine components.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 057-01.

United States Department of State,

Washington, D.C. 20520, May 24, 2001.

The Honorable J. Dennis Hastert, Speaker of the House of Representatives.

Dear Mr. Speaker:Pursuant to Section 36(c) and (d) of the Arms Export Control Act, I am transmitting, herewith, certification of a proposed Manufacturing License Agreement with the Republic of Korea.

The transaction described in the attached certification involves the transfer of design data, engineering information, instructions and support material for the manufacture of ADVS 1790 series engines in the Republic of Korea for the Korean Defense Department.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs

Enclosure:Transmittal No. DTC 058-01

United States Department of State,

Washington, D.C. 20520, May 24, 2001.

The Honorable J. Dennis Hastert, Speaker of the House of Representatives.

Dear Mr. Speaker:Pursuant to Section 36(c) of the Arms Export Control Act, I am transmitting, herewith, certification of a proposed license for the export of defense articles or defense services sold commercially under a contract in the amount $50,000,000 or more.

The transaction contained in the attached certification involves the export of technical data and assistance for the manufacture in Japan of H-423 Inertial Navigation Systems for the Japan Defense Agency.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure:Transmittal No. DTC 059-01

United States Department of State,

Washington, D.C. 20520, May 24, 2001.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the export of technical data and assistance for the manufacture and assembly in the Republic of Korea of X200-5K transmissions and components.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 060-01

United States Department of State,

Washington, D.C. 20520, May 25, 2001.

The Honorable J. Dennis Hastert, Speaker of the House of Representatives.

Dear Mr. Speaker: Pursuant to Section 36(d) of the Arms Export Control Act, I am transmitting herewith certification of a proposed Manufacturing License Agreement with Switzerland.

The transaction contained in the attached certification involves the transfer of defense services and technical data to Switzerland for the manufacture, assembly, repair, overhaul and logistical support of the MK44 Chain Gun used in an Armored Infantry Vehicle in Switzerland.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 041-01

United States Department of State,

Washington, D.C. 20520, May 25, 2001.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves launch services for the Asiasat 4 commercial communications satellite on an Atlas III launch vehicle from Cape Canaveral, Florida.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 042-01

United States Department of State,

Washington, D.C. 20520, May 25, 2001.

The Honorable J. Dennis Hastert, Speaker of the House of Representatives.

Dear Mr. Speaker: Pursuant to Section 36(d) of the Arms Export Control Act, I am transmitting herewith certification of a proposed Manufacturing License Agreement with Canada.

The transaction contained in the attached certification involves the export of defense services and technical data for the manufacture of acoustic data recorder/reproducer and remote control units for the P-3C Orion Maritime Surveillance Aircraft in Canada.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 043-01

United States Department of State,

Washington, D.C. 20520, May 25, 2001.

The Honorable J. Dennis Hastert, Speaker of the House of Representatives.

Dear Mr. Speaker: Pursuant to Section 36(d) of the Arms Export Control Act, I am transmitting herewith certification of a proposed manufacturing license agreement with Japan.

The transaction contained in the attached certification involves the export of defense services and technical data to Japan for the manufacture and sale of fifty (50) hybrid 205B(JDA) model helicopters for use by the Japanese Defense Agency.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest

Acting Assistant Secretary, Legislative Affairs.

Enclosure: Transmittal No. DTC 045-01

United States Department of State,

Washington, D.C. 20520, May 25, 2001.

The Honorable J. Dennis Hastert, Speaker of the House of Representatives.

Dear Mr. Speaker: Pursuant to Section 36(c) of the Arms Export Control Act, I am transmitting herewith certification of a proposed request for the sale of defense articles or defense services sold under a contract in the amount $50,000,000 or more.

The transaction contained in the attached certification involves the transfer of ten (10) C-130H Aircraft, ten (10) spare T-56 engines, spare parts and ground support equipment from Italy to the Government of Brazil.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 055-01

United States Department of State,

Washington, D.C. 20520, May 30, 2001.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the sale of Airborne Early Warning and Control (AEW&C) systems to Australia.

The United States Government is prepared to license the export of these items having taken into account political, military, economic, human rights, and arms control considerations.

More detailed information is contained in the formal certification, which, though unclassified, contains business information submitted to the Department of State by the applicant, publication of which could cause competitive harm to the United States firm concerned.

Sincerely,

Michael E. Guest,

Acting Assistant Secretary, Legislative Affairs.

Enclosure: Transmittal No. DTC 047-01

[FR Doc. 01-14628 Filed 6-8-01; 8:45 am]

BILLING CODE 4710-25-P